DEPARTMENT OF ENERGY

Federal Energy Regulatory Commission

18 CFR Part 284

[Docket No. RM96-1-015]

Standards For Business Practices Of Interstate Natural Gas Pipelines

February 14, 2001.

AGENCY: Federal Energy Regulatory Commission, Energy.

ACTION: Notice of staff conference organization.

SUMMARY: This document establishes the organizational format for the staff conference to be held on February 27, 2001 to discuss standards to permit shippers to designate and rank the contracts under which gas will flow on a pipeline's system.

DATES: The conference will be held February 27, 2001.

ADDRESSES: Federal Energy Regulatory Commission, 888 First Street, NE., Washington DC 20426.

FOR FURTHER INFORMATION CONTACT: Michael Goldenberg, Office of the General Counsel, Federal Energy Regulatory Commission, 888 First Street, NE., Washington, DC 20426.

SUPPLEMENTARY INFORMATION:

Notice Organizing Staff Conference

This notice provides the organizational format for the February 27, 2001, Federal Energy Regulatory Commission staff conference to discuss cross-contract ranking and confirmation standards, as directed by the Commission in Order No. 587-M.¹ The conference will begin at 9:30 a.m. at the Commission's offices, 888 First Street, NE., Washington, DC. All interested persons are invited to attend.

¹ Standards For Business Practices Of Interstate Natural Gas Pipelines, Order No. 587-M, 65 FR 77285 (Dec. 11, 2000), 93 FERC ¶ 61,223 (November 30, 2000), III FERC Stats. & Regs. Regulations Preambles ¶ 31,114 (Nov. 30, 2000).

The December 21, 2000, Notice of Conference ² requested those interested in making presentations or participating in the discussions to indicate their interest by January 16, 2001. Ten requests to make presentations or participate in discussions were received. The conference will be organized in the following format. Members of the audience also will be permitted to participate in the discussions.

² 65 FR 82961 (Dec. 29, 2000).

I. Introduction to Nomination and Confirmation Practices and the Current GISB Standards

Presentations:

Sylvia Munson, Co-Chairman of GISB Confirmation and Cross-Contract Ranking Subcommittee

James Buccigross, Chairman of GISB Executive Committee

II. Presentations and Discussion on Downstream Issues Related to Cross-Contract Ranking

Presentations:

Representative of Consolidated Edison Co. of NY, Inc. and Orange and Rockland Utilities, Inc.

Representative of the Interstate Natural Gas Association of America

Michael E. Novak, National Fuel Gas Distribution Corp.

Greg Lander, Principal, Skipping Stone, Inc.

Discussion:

Mark A. Scheel, Manager Regulatory Affairs, Dynegy, Inc.

Diane McVicker, Principal Analyst, Salt River Project Representative of Wisconsin Distributor Group

III. Presentations and Discussion on Upstream Issues Related to Cross-Contract Ranking

Presentations:

Lauren Kaestner, Natural Gas Supply Association

Representative of the Interstate Natural Gas Association of America

Discussion:

Tommie Hartmann, Natural Gas Supply Association

The Commission has the capability to provide overhead projectors and to display computer generated slide presentations. Presenters must inform Michael Goldenberg either by mail, or E-Mail at the addresses below if they intend to use overheads.³ Presenters can bring their presentations on their own laptops which will be connected to the Commission's display system. Presenters also can use a Commission computer to display their presentation. The Commission has the capability to display presentations in the following formats, MS Powerpoint 2000 and Corel Presentations 8. Those wanting to use a Commission computer must notify Michael Goldenberg by February 21, 2001. In order to facilitate such presentations, presenters are encouraged to provide their files in advance by sending an E-Mail, with the slide presentation as an attachment, by February 21, 2001, to Michael Goldenberg, so that the presentation can be tested on the Commission computer and available at the conference. If presentations are not provided in advance, the presenter should bring the presentation to the conference on a diskette in one of the specified formats.

³ Upon receipt of each E-Mail, a reply acknowledgment will be sent to the sender's E-Mail address. If a sender does not receive a reply, the sender should call to make sure his/her E-Mail was received.

In addition, all presentations must be officially filed with the Commission by March 5, 2001 according to the instructions given below regardless whether an advance copy of the presentation was provided by E-Mail. As discussed below, the Commission cannot currently accept Powerplant or Presentation files electronically, but the presentations can be filed electronically if they are converted to one of the accepted formats.

The conference will be transcribed, so those not attending can review the proceedings. Additional comments on the issues raised by the conference can be filed by March 29, 2001.

Presentations and after-conference comments may be filed either in paper format or electronically. Those filing electronically do not need to make a paper filing. For paper filings, the original and 14 copies of such comments should be submitted to the Office of the Secretary, Federal Energy Regulatory Commission, 888 First Street, NE., Washington DC 20426 and should refer to Docket No. RM96-1-015.

Presentations and comments filed via the Internet must be prepared in WordPerfect, MS Word, Portable Document Format, or ASCII format. To file the document, access the Commission's website at www.ferc.fed.us and click on “Make An E-Filing,” and then follow the instructions for each screen. First time users will have to establish a user name and password. The Commission will send an automatic acknowledgment to the sender's E-Mail address upon receipt of comments.

User assistance for electronic filing is available at 202-208-0258 or by E-Mail to efiling@ferc.fed.us. Comments should not be submitted to the E-Mail address. All comments will be placed in the Commission's public files and will be available for inspection in the Commission's Public Reference Room at 888 First Street, NE., Washington DC 20426, during regular business hours. Additionally, all comments may be viewed, printed, or downloaded remotely via the Internet through FERC's Homepage using the RIMS link. User assistance for RIMS is available at 202-208-2222, or by E-Mail to rimsmaster@ferc.fed.us.

The Capitol Connection offers all Open and special FERC meetings live over the Internet as well as via telephone and satellite. For a reasonable fee, you can receive these meetings in your office, at home or anywhere in the world. To find out more about The Capitol Connection's live Internet, phone bridge, or satellite coverage, contact David Reininger or Julia Morelli at 703-993-3100 or visit the website (www.capitolconnection.gmu.edu). The Capitol Connection also offers FERC Open Meetings through its Washington, DC area television service.

In addition, National Narrowcast Network's Hearing-On-The-Line service covers all FERC meetings live by telephone so that interested persons can listen at their desks, from their homes, or from any phone, without special equipment. Billing is based on time on-line. Call 202-966-2211.

Those interested in obtaining transcripts of the conference need to contact Ace Federal Reporters, at 202-347-3700. Anyone interested in purchasing videotapes of the meeting should call VISCOM at 703-715-7999.

Questions about the conference should be directed to: Michael Goldenberg, Office of the General Counsel, Federal Energy Regulatory Commission, 888 First Street, NE, Washington, DC 20426, 202-208-2294. michael.goldenberg@ferc.fed.us

Linwood A. Watson, Jr.,
Acting Secretary.

[FR Doc. 01-4207 Filed 2-20-01; 8:45 am]

BILLING CODE 6717-01-M